DEPARTMENT OF COMMERCE

National Oceanic and Atmospheric Administration

RIN 0648-XC968

New England and Mid-Atlantic Fishery Management Councils; Public Comment

AGENCY: National Marine Fisheries Service (NMFS), National Oceanic and Atmospheric Administration (NOAA), Commerce.

ACTION: Notice; request for comments.

SUMMARY: The New England and Mid-Atlantic Fishery Management Councils seek public comment on a draft amendment to all the fishery management plans under their purview. The omnibus amendment would establish a standardized bycatch reporting methodology for each fishery management plan, as required by the Magnuson-Stevens Fishery Conservation and Management Act.

DATES: Comments must be received by December 19, 2013.

ADDRESSES: You may submit written comments by any of the following methods.

• Email: nmfs.ner.draftSBRM@noaa.gov. Include in the subject line “Comments on draft SBRM.”

• Mail: John K. Bullard, Regional Administrator, NMFS, Northeast Regional Office, 55 Great Republic Drive, Gloucester, MA 01930. Mark the outside of the envelope “Comments on draft SBRM.”

• Fax: (978) 281-9135.

Copies of the draft SBRM amendment may be obtained by contacting the NMFS Northeast Regional Office at the above address. The documents are also available via the internet at: http://nero.noaa.gov/mediacenter/2013/09/draftsbrmamendment.html.

FOR FURTHER INFORMATION CONTACT: Douglas Potts, Fishery Policy Analyst, (978) 281-9341.

SUPPLEMENTARY INFORMATION: Section 303(a)(11) of the Magnuson-Stevens Fishery Conservation and Management Act (Magnuson-Stevens Act) requires each fishery management plan (FMP) to include provisions establishing “a standardized reporting methodology to assess the amount and type of bycatch occurring in the fishery.” The Councils and NMFS are considering an omnibus amendment to establish a standardized bycatch reporting methodology (SBRM) or modify existing SBRMs under every Northeast Region FMP. NMFS had previously implemented an omnibus SBRM amendment recommended by the Councils. That amendment was vacated by a Federal Court and remanded to NMFS and the Councils in order to develop and implement another SBRM amendment consistent with the Court's findings, see Oceana v. Locke et al. (No. 10-5299). The purpose of the amendment is to respond to the remand; particularly the appellate court's finding that the level of observer coverage was too dependent on the discretion of NMFS. This amendment also would explain the methods and processes by which bycatch is currently monitored and assessed for Northeast Region fisheries, determine whether these methods and processes need to be modified and/or supplemented, establish standards of precision for bycatch estimation for all Northeast Region fisheries and, thereby, to document the SBRM established for all fisheries managed through the FMPs of the Northeast Region. The scope of the omnibus amendment is limited to those fisheries prosecuted in the Federal waters of the Northeast Region and managed through an FMP developed by either the Mid-Atlantic or New England Council.

Alternatives under consideration in the omnibus SBRM amendment address bycatch reporting and monitoring mechanisms, analytical techniques, and allocation of at-sea fishery observers when funding limits the recommended level of observer coverage; establishment of a target level for precision of bycatch estimates; and requirements for reviewing and reporting on the efficacy of the SBRM. NMFS and the Councils will consider all comments received on the draft SBRM amendment and the alternatives for incorporation into the final document until the end of the comment period on December 19, 2013. The public will have several additional opportunities to comment on the SBRM. The final amendment will be considered for approval by the Councils at public meetings in early 2014. Once submitted to NMFS, the final SBRM Amendment will be made available for public review and comment, and regulations will be proposed for review and comment.

Authority: 16 U.S.C. 1801 et seq.

Dated: November 13, 2013.
Kelly Denit,
Acting Deputy Director, Office of Sustainable Fisheries, National Marine Fisheries Service.

[FR Doc. 2013-27570 Filed 11-18-13; 8:45 am]

BILLING CODE 3510-22-P